DEPARTMENT OF HEALTH AND HUMAN SERVICES

Centers for Disease Control and Prevention

[30-Day-12-0278]

Agency Forms Undergoing Paperwork Reduction Act Review

The Centers for Disease Control and Prevention (CDC) publishes a list of information collection requests under review by the Office of Management and Budget (OMB) in compliance with the requirement of Section 3506(c)(2)(A) of the Paperwork Reduction Act of 1995. To request a copy of these requirements, call the CDC Reports Clearance Officer at (404) 639-5960 or send an e-mail to omb@cdc.gov. Send written comments to CDC Desk Officer, Office of Management and Budget, Washington, DC or by fax to (202) 395-5806. Written comments should be received within 30 days of this notice.

Proposed Project

National Hospital Ambulatory Medical Care Survey [OMB No. 0920-0278]exp.08/31/2012—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. The National Hospital Ambulatory Medical Care Survey (NHAMCS) has been conducted annually since 1992. The purpose of NHAMCS is to meet the needs and demands for statistical information about the provision of ambulatory medical care services in the United States. Ambulatory services are rendered in a wide variety of settings, including physicians' offices and hospital outpatient and emergency departments, and ambulatory surgery centers.

The target universe of the NHAMCS is in-person visits made to outpatient departments (OPDs), emergency departments (EDs), and ambulatory surgery locations (ASLs) of non-Federal, short-stay hospitals (hospitals with an average length of stay of less than 30 days) or those whose specialty is general (medical or surgical) or children's general, as well as visits to freestanding ambulatory surgery centers (FS-ASCs).

The objectives of this revision are to convert data collection instruments from paper to computer-based instruments; add 167 hospitals to the NHAMCS sample to make state-based estimates in five states on emergency department characteristics; expand the data collection to include a lookback module; conduct a colonoscopy supplement pretest; and make slight modifications to survey questions.

Users of NHAMCS data include, but are not limited to, congressional offices, Federal agencies, state and local governments, schools of public health, colleges and universities, private industry, nonprofit foundations, professional associations, clinicians, researchers, administrators, and health planners. There are no costs to the respondents other than their time. The total estimated annualized burden hours are 10,348.

Estimated Annualized Burden Table
Type of respondent | Form name | Number of respondents | Number of responses per respondent | Average burden per response (in hours)
Hospital Chief Executive Officer | Hospital Induction | 482 | 1 | 1.5
Hospital Chief Executive Officer | Hospital Induction (new sample) | 167 | 1 | 30/60
Ancillary Service Executive | Freestanding ASC Induction | 200 | 1 | 30/60
Ancillary Service Executive | Ambulatory Unit Induction | 1,946 | 1 | 15/60
Physician/Registered Nurse/ Medical Record Clerk | ED Patient Record form | 154 | 100 | 7/60
Physician/Registered Nurse/ Medical Record Clerk | OPD Patient Record form | 78 | 200 | 14/60
Physician/Registered Nurse/ Medical Record Clerk | AS Patient Record Form | 108 | 100 | 7/60
Medical Record Clerk | Pulling and re-filing Patient Records (ED, OPD, and AS) | 1,018 | 133 | 1/60

Dated: October 18, 2011.
Daniel Holcomb,
Reports Clearance Officer, Centers for Disease Control and Prevention.

[FR Doc. 2011-27583 Filed 10-24-11; 8:45 am]

BILLING CODE 4163-18-P